DEPARTMENT OF ENERGY

Federal Energy Regulatory Commission

[Docket No. CP18-10-000]

Notice of Schedule for Environmental Review of the Enbridge—Texas Eastern Transmission, L.P. Tx—La Markets Project

On October 19, 2017, Enbridge—Texas Eastern Transmission, L.P. (Texas Eastern) filed an application in Docket No. CP18-10-000 requesting a Certificate of Public Convenience and Necessity pursuant to section 7(c) of the Natural Gas Act to construct and operate certain natural gas facilities. The proposed project is known as the TX—LA Markets Project (Project), and would involve modifications to Texas Eastern's existing Gillis Compressor Station in Beauregard Parish, Louisiana.

On October 31, 2017, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA May 31, 2018

90-day Federal Authorization Decision Deadline August 29, 2018

If a schedule change becomes necessary, additional notice will be provided so that the relevant agencies are kept informed of the Project's progress.

Project Description

The proposed modifications to the Gillis Compressor Station in Beauregard Parish, Louisiana would consist of the installation of two gas cooling bays and installation of two new impellers for the existing compressor units.

Background

On December 6, 2017, the Commission issued a Notice of Intent to Prepare an Environmental Assessment for the Proposed TX—LA Markets Project and Request for Comments on Environmental Issues (NOI). The NOI was sent to affected landowners; federal, state, and local government agencies; elected officials; environmental and public interest groups; Native American tribes; other interested parties; and local libraries and newspapers. No comments were received in response to the NOI.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the “eLibrary” link, select “General Search” from the eLibrary menu, enter the selected date range and “Docket Number” excluding the last three digits (i.e., CP18-10), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: April 5, 2018.
Kimberly D. Bose,
Secretary.

[FR Doc. 2018-07491 Filed 4-10-18; 8:45 am]

BILLING CODE 6717-01-P